DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than June 11, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Rural Health Care Services Outreach Supplement Performance Measures.

OMB No.: 0915-xxxx—NEW.

Abstract: The fiscal year (FY) 2013 Supplemental Funding to the Rural Health Care Services Outreach Program grantees is a one-time supplemental funding under Section 330A(e) of the Public Health Service (PHS) Act (42 U.S.C. 254c(e)) to promote rural health care services outreach by expanding the delivery of health care services to include new and enhanced services in rural areas. The supplemental funding will specifically focus on supporting the current scope of their project, allowing grantees to further enhance outreach and enrollment assistance activities in their communities. This supplemental funding will support the Affordable Care Act's outreach and enrollment activities to the Health Insurance Marketplaces. Grantees will be able to raise awareness of affordable insurance options and provide assistance and information to the uninsured about enrolling in available sources of insurance, such as Medicare, Medicaid, the Children's Health Insurance Program, and private insurance in the Marketplace through this supplemental funding.

The overarching goal is to increase the number of eligible individuals educated about their coverage options and enrollees to the Health Insurance Marketplaces or other available sources of insurance, such as Medicare, Medicaid, and the Children's Health Insurance Program as a result of this supplemental funding.

Need and Proposed Use of the Information: For this program, performance measures were drafted to provide data to the program and to enable HRSA to provide aggregate program data. These measures cover the principal topic areas of interest to the Office of Rural Health Policy, including: (a) Organizational information; (b) outreach and enrollment personnel; (c) outreach and education; (d) enrollment; and (e) additional resources. Several measures will be used for this program. A 60-day Federal Register notice was published in the Federal Register on February 18, 2014 (see, 79 Fed. Reg. 9235). There were no comments.

Likely Respondents: The respondents would be recipients of the Rural Health Care Services Outreach supplemental funding award.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Rural Health Care Services Outreach Supplement Performance Measures | 52 | 1 | 52 | 1.5 | 78
Total | 52 | 1 | 52 | 1.5 | 78

Dated: May 6, 2014.
Bahar Niakan,
Director, Division of Policy and Information Coordination.

[FR Doc. 2014-10875 Filed 5-9-14; 8:45 am]

BILLING CODE 4165-15-P